ENVIRONMENTAL PROTECTION AGENCY

[EPA-HQ-OW-2010-0595; FRL-9255-6; EPA ICR No. 2402.01; OMB Control No. 2040-NEW]

Agency Information Collection Activities; Submission to OMB for Review and Approval; Willingness To Pay Survey for § 316(b) Existing Facilities Cooling Water Intake Structures (New)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before February 22, 2011.

ADDRESSES: Submit your comments, identified by Docket ID No. EPA-HQ-OW-2010-0595 to:

(1) EPA by one of the following methods:

• http://www.regulations.gov: Follow the on-line instructions for submitting comments.

• E-mail: OW-Docket@epa.gov, Attention Docket ID No. EPA-HQ-OW-2010-0595.

• Mail: Water Docket, Environmental Protection Agency, Mailcode: 28221T, 1200 Pennsylvania Ave., NW., Washington, DC 20460, Attention Docket ID No. EPA-HQ-OW-2010-0595. Please include a total of 3 copies.

• Hand Delivery: Water Docket, EPA Docket Center, EPA West, Room 3334, 1301 Constitution Ave., NW., Washington, DC, Attention Docket ID No. EPA-HQ-OW-2010-0595. Such deliveries are only accepted during the Docket's normal hours of operation and special arrangements should be made.

(2) OMB by mail to: Office of Information and Regulatory Affairs, Office of Management and Budget (OMB), Attention: Desk Officer for EPA, 725 17th Street, NW., Washington, DC 20503.

FOR FURTHER INFORMATION CONTACT: Erik Helm, Office of Water, Office of Science and Technology, Engineering and Analysis Division, Economic and Environmental Assessment Branch, 4303T, Environmental Protection Agency, 1200 Pennsylvania Ave., NW., Washington, DC 20460; telephone number: 202-566-1049; fax number: 202-566-1053; e-mail address: Helm.Erik@epa.gov.

SUPPLEMENTARY INFORMATION: EPA has submitted the following ICR to OMB for review and approval according to the procedures prescribed in 5 CFR 1320.12. On July 21, 2010 (74 FR 42438), EPA sought comments on this ICR pursuant to 5 CFR 1320.8(d). EPA received five comments during the comment period, which are addressed in the ICR. Any additional comments on this ICR should be submitted to EPA and OMB within 30 days of this notice.

EPA has established a public docket for this ICR under Docket ID No. EPA-HQ-OW-2010-0595 which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Willingness to Pay Survey for Section 316(b) Existing Facilities Cooling Water Intake Structures: Instrument, Pre-test, and Implementation.

ICR numbers: EPA ICR No. 2402.01, OMB Control No. 2040-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 316(b) of the Clean Water Act (CWA) requires EPA to ensure that the location, design, construction, and capacity of cooling water intake structures (CWIS) reflect the best technology available (BTA) to protect aquatic organisms from being killed or injured by impingement or entrainment. At question here is the regulation of the existing steam electric and manufacturing facilities.

Under Executive Order 12866, EPA is required to estimate the potential benefits and costs to society of proposed rule options of significant rules. To assess the importance of the ecological gains from the section 316(b) regulation, EPA requests approval from the OMB to conduct a stated preference survey. Data from the associated stated preference survey will be used to estimate values (willingness to pay, or WTP) derived by households for changes related to the reduction of fish losses at CWIS, and to provide information to assist in the interpretation and validation of survey responses. EPA has designed the survey to provide data to support the following specific objectives: [a] The estimation of the total values that individuals place on preventing losses of fish and other aquatic organisms caused by 316(b) facilities; [b] to understand how much individuals value preventing fish losses, increasing fish populations, and increasing commercial and recreational catch rates; [c] to understand how such values depend on the current baseline level of fish populations and fish losses, the scope of the change in those measures, and the certainty level of the predictions; and [d] to understand how such values vary with respect to individuals' economic and demographic characteristics.

The key elicitation questions ask respondents whether or not they would vote for policies that would increase their cost of living, in exchange for specified multi-attribute changes in [a] impingement and entrainment losses of fish, [b] commercial fish populations, [c] long-term populations of all fish, and [d] condition of aquatic ecosystems. The respondents' stated preferences with respect to levels of environmental goods and cost to households, when used in conjunction with other information collected in the survey on the use of the affected aquatic resources, household income, and other demographics, can be analyzed statistically (using a mixed logit framework) to estimate total WTP for the quantified environmental benefits of the 316(b) rulemaking. Data analysis and interpretation is grounded in a standard random utility model.

The welfare values that can be derived from this stated preference survey along with those that are estimated apart from the survey effort will offer insight into the composition of the value people place on the 316(b) environmental impacts. WTP estimates derived from the survey may overlap—to a potentially substantial extent—with estimates that can be provided through some other methods. Therefore, particular care will be given to avoid any possible double counting of values that might be derived from alternative valuation methods.

Burden Statement: The annual public reporting and recordkeeping burden for this collection of information is estimated to average 5 minutes per telephone screening participant and 30 minutes per mail survey respondent including the time necessary to complete and mail back the questionnaire. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Respondents: Individuals from U.S. households.

Estimated total number of potential respondents: 9,533 for telephone screening and 2,288 for mailed questionnaires.

Frequency of response: One-time response.

Estimated total average number of responses for each respondent: One-time response.

Estimated total burden hours: 1,938 hours.

Estimated total costs: $39,583. EPA estimates that there will be no capital and operating and maintenance cost burden to respondents.

Dated: January 14, 2011.
John Moses,
Director, Collection Strategies Division.

[FR Doc. 2011-1257 Filed 1-20-11; 8:45 am]

BILLING CODE 6560-50-P